DEPARTMENT OF COMMERCE

International Trade Administration

A-570-848

Notice of Extension of the Preliminary Results of New Shipper Antidumping Duty Reviews: Freshwater Crawfish Tail Meat from the People's Republic of China

AGENCY: Import Administration, International Trade Administration, Department of Commerce.

SUMMARY: The Department of Commerce (“Department”) is conducting new shipper antidumping duty reviews of freshwater crawfish tail meat from the People's Republic of China (“PRC”) in response to requests by Nanjing Merry Trading Co., Ltd. (“Nanjing Merry”), Leping Lotai Foods Co., Ltd. (“Leping Lotai”), Weishan Hongrun Aquatic Co., Ltd. (“Weishan Hongrun”), and Shanghai Strong International Trading Co., Ltd. (“Shanghai Strong”). These reviews cover shipments to the United States for the period September 1, 2005, to February 28, 2006, by these four respondents. For the reasons discussed below, we are further extending the preliminary results of the new shipper reviews of Nanjing Merry, Leping Lotai, Weishan Hongrun, and Shanghai Strong by an additional 30 days, to no later than February 22, 2007.

EFFECTIVE DATE: December 15, 2006.

FOR FURTHER INFORMATION CONTACT: Erin Begnal or Scot Fullerton, AD/CVD Operations, Office 9, Import Administration, International Trade Administration, U.S. Department of Commerce, 14th Street and Constitution Avenue, NW, Washington, DC 20230; telephone: (202) 482-1442 and (202) 482-1386, respectively.

SUPPLEMENTARY INFORMATION:

Background

The Department received timely requests from Nanjing Merry, Leping Lotai, Weishan Hongrun, and Shanghai Strong in accordance with 19 CFR 351.214(c) for new shipper reviews of the antidumping duty order on freshwater crawfish tail meat from the PRC. On May 5, 2006, the Department found that the requests for review with respect to Nanjing Merry, Leping Lotai, and Weishan Hongrun met all of the regulatory requirements set forth in 19 CFR 351.214(b) and initiated these new shipper antidumping duty reviews covering the period September 1, 2005, through February 28, 2006. See Freshwater Crawfish Tail Meat From the People's Republic of China: Initiation of Antidumping Duty New Shipper Reviews, 71 FR 26453 (May 5, 2006).

On May 31, 2006, the Department found that the request for review with respect to Shanghai Strong met all of the regulatory requirements set forth in 19 CFR 351.214(b) and initiated a new shipper antidumping duty review covering the period September 1, 2005, through February 28, 2006. See Freshwater Crawfish Tail Meat From the People's Republic of China: Initiation of Antidumping Duty New Shipper Review, 71 FR 30866 (May 31, 2006).

Extension of Time Limits for Preliminary Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated (19 CFR 351.214 (i)(2)).

The Department already determined that the reviews are extraordinarily complicated in its initial notice extending the deadline for the preliminary results of these reviews where it extended the deadline for the preliminary results until January 23, 2007. See Notice of Extension of the Preliminary Results of New Shipper Antidumping Duty Reviews: Freshwater Crawfish Tail Meat from the People's Republic of China, 71 FR 59738 (October 11, 2006). The Department, however, finds that it requires additional information from respondents for purposes of the preliminary results. Based on the timing of the case and the additional information that must be gathered and verified, the preliminary results of these new shipper reviews cannot be completed within the statutory time limit of 180 days. Accordingly, the Department is further extending the time limit for the completion of the preliminary results of the new shipper reviews of Nanjing Merry, Leping Lotai, Weishan Hongrun, and Shanghai Strong by 30 days from the January 23, 2007 deadline.

The preliminary results for all four new shipper reviews will now be due February 22, 2007 in accordance with section 751(a)(2)(B)(iv) of the Act and 19 CFR 351.214(i)(2). The final results will, in turn, be due 90 days after the date of issuance of the preliminary results, unless extended.

This notice is published pursuant to sections 751(a)(2)(B)(iv) and 777(i)(1) of the Act.

Dated: December 8, 2006.
Stephen J. Claeys,
Deputy Assistant Secretary for Import Administration.

[FR Doc. E6-21442 Filed 12-14-06; 8:45 am]

BILLING CODE 3510-DS-S